DEPARTMENT OF AGRICULTURE

Rural Housing Service

[Docket No. RHS-24-CF-0014]

Announcement of the Availability of Puerto Rico Rural Partners Network Rural Community Development Initiative

AGENCY: Rural Housing Service, USDA.

ACTION: Notice of funding of availability (NOFA).

SUMMARY: The Rural Housing Service (RHS or the Agency), a Rural Development (RD) agency of the United States Department of Agriculture (USDA), announces the acceptance of applications under the Puerto Rico Rural Partners Network (RPN) Rural Community Development Initiative (RCDI) program to provide authorized activities in Puerto Rico areas affected by a disaster declared by the President or the Secretary of Agriculture. These grants will be made to qualified intermediary organizations that will provide financial and technical assistance to recipients to develop their capacity and ability to undertake projects related to housing, community facilities, or community and economic development that will support the community. The maximum grant award amount available to an intermediary is $250,000. The Consolidated Security, Disaster Assistance, and Continuing Appropriations Act, 2009, created the Disaster Assistance Fund (DAF) and the Secretary of Agriculture has authorized $1,000,000 of DAF funds to be utilized in Puerto Rico for the RCDI program for the purposes described in this NOFA.

DATES: Completed applications must be submitted using one of the following methods:

• Paper submissions: Paper applications must be received by 4:00 p.m. local time by the Puerto Rico Rural Development State Office July 3, 2024.

• Electronic submissions: Electronic applications must be submitted via Grants.gov by 11:59 p.m. Eastern Time on June 28, 2024.

Prior to official submission of applications, applicants may request technical assistance or other application guidance from the Agency, as long as such requests are made prior to June 24, 2024.

ADDRESSES: Application information for electronic submissions may be found at https://www.Grants.gov/. Applicants may also request paper application packages from the Puerto Rico Rural Development State Office at (787) 766-5095.

FOR FURTHER INFORMATION CONTACT: Danna Quiles, Community Programs Director, Puerto Rico Rural Development State Office, United States Department of Agriculture, 654 Muñoz Rivera Ave., Suite 601, San Juan, Puerto Rico 00918, Phone: (787) 766-5346, Email: danna.quiles@usda.gov.

SUPPLEMENTARY INFORMATION:

Overview

Federal Awarding Agency Name: Rural Housing Service, (RHS).

Funding Opportunity Title: Puerto Rico RPN RCDI.

Announcement Type: Notice of Funding Availability (NOFA).

Funding Opportunity Number: USDA-RD-HCFP-PR-RPN-RCDI-2024.

Assistance Listing: 10.446.

Dates: Applications must be submitted using one of the following methods:

• Paper submissions: The deadline for receipt of a paper application is 4 p.m. local time, to the Puerto Rico Rural Development State Office, 654 Muñoz Rivera Ave., Suite 601, San Juan, Puerto Rico 00918. July 3, 2024. Applicants intending to mail applications must provide sufficient time to permit delivery on or before the closing deadline date and time. Acceptance by the United States Postal Service or private mailer does not constitute delivery. Facsimile (FAX), electronic mail, and postage due applications will not be accepted. The application dates and times are firm. The Agency will not consider any application received after the deadline.

• Electronic submission: Electronic applications will be accepted via Grants.gov. The deadline for receipt of an electronic applications via Grants.gov is 11:59 p.m. Eastern Time on June 28, 2024. The application dates and times are firm. The Agency will not consider any application received after the deadline. The Agency recommends not filing electronic submissions too close to the submission deadline in the event there is a problem with the system. Applicants that choose to mail applications in lieu of an electronic submission must provide sufficient time to permit delivery on or before the closing deadline date and time. Acceptance by the United States Postal Service or private mailer does not constitute delivery. Facsimile (FAX), electronic mail and postage due applications will not be accepted. Prior to official submission of applications, applicants may request technical assistance or other application guidance from the Agency, as long as such requests are made prior to June 24, 2024. Technical assistance is not meant to be an analysis or assessment of the quality of the materials submitted, a substitute for agency review of completed applications, nor a determination of eligibility, if such determination requires in-depth analysis. The Agency will not accept any applications or consider additional information or documentation received after the application deadline. The application dates and times are firm. The Agency reserves the right to contact applicants to seek clarification information on materials contained in the submitted application.

Rural Development Key Priorities: The Agency encourages applicants to consider projects that will advance the following key priorities (more details available at https://www.rd.usda.gov/priority-points):

• Addressing Climate Change and Environmental Justice; Reducing climate pollution and increasing resilience to the impacts of climate change through economic support to rural communities.

• Advancing Racial Justice, Place-Based Equity, and Opportunity; Ensuring all rural residents have equitable access to RD programs and benefits from RD funded projects.

• Creating More and Better Market Opportunities; Assisting rural communities recover economically through more and better market opportunities and through improved infrastructure.

For further information, visit https://www.rd.usda.gov/priority-points.

A. Program Description

1. Purpose of the Program.

The program is designed to assist qualified private organizations, nonprofit organizations, and public (including tribal) intermediary organizations located in Puerto Rico, proposing to carry out financial and technical assistance programs to improve housing, community facilities, and community and economic development projects in rural areas of Puerto Rico where a Presidential declaration of a major disaster was made under the Robert T. Stafford Disaster Relief and Emergency Assistance Act (42 U.S.C 5121 et seq.) (Stafford Act). This program requires the intermediary (Grantee) to provide a program of financial and technical assistance to recipients. The recipients will, in turn, provide programs to their communities (beneficiaries).

Awards made under this NOFA will help rural communities and nonprofits to build capacity and technical assistance for readiness for more competitive funding applications and successful project completion. The aim is to support rural communities and nonprofit organizations in Puerto Rico's Rural Partners Community Networks to access federal funding to address community and economic challenges in areas where a Presidential declaration of a major disaster was issued.

2. Statutory and Regulatory Authority.

Congress created the RCDI program in 1999 (Pub. L. 106-78), and The Consolidated Security, Disaster Assistance, and Continuing Appropriations Act, 2009, Public Law 110-329 (7 U.S.C. 6945) (“the Act”), created the Disaster Assistance Fund (DAF). The Act authorized additional amounts for authorized activities in areas affected by a disaster declared by the President or the Secretary of Agriculture. This program is implemented under the guidelines announced in this Notice and 2 CFR part 200.

3. Definitions.

Agency—The Rural Housing Service or its successor.

Beneficiary—Entities or individuals that receive benefits from assistance provided by the Recipient.

Capacity—The ability of a Recipient to implement housing, community facilities, or community and economic development projects.

Conflict of interest—A situation in which a person or entity has competing personal, professional, or financial interests that make it difficult for the person or business to act impartially. Regarding use of grant funds, federal procurement standards prohibit transactions that involve a real or apparent conflict of interest for owners, employees, officers, agents, or their immediate family members having a financial or other interest in the outcome of the project; or that restrict open and free competition for unrestrained trade. Specifically, project funds may not be used for services or goods going to, or coming from, a person or entity with a real or apparent conflict of interest, including, but not limited to, owner(s) and their immediate family members. An example of a conflict of interest occurs when an employee of the grantee, a member of the grantee's board of directors, or the immediate family of either, has the appearance of a professional or personal financial interest in a recipient receiving the benefits or services of the grant.

Federally recognized Tribes—Tribal entities recognized and eligible for funding and services from the Bureau of Indian Affairs, based on the most recent notice in the Federal Register published by the Bureau of Indian Affairs (pursuant to Pub. L. 103-454) and Tribes that received federal recognition after the most recent publication. Tribally designated housing entities (TDHE) are eligible RCDI recipients. There are no federally recognized tribes nor TDHEs in Puerto Rico.

Financial assistance—Funds, not to exceed $10,000 per award, used by the intermediary to purchase supplies and equipment to build the recipient's capacity.

Funds—The Puerto Rico RPN RCDI grant funds that have been provided by the Grantee.

Intermediary—A qualified private organization, nonprofit organization (including faith-based and community organizations and philanthropic organizations), or public (including tribal) organization, located in Puerto Rico, that provides financial and technical assistance to multiple recipients.

Low-income rural community—An authority, district, economic development authority, regional council, federally recognized Tribe, or unit of government representing an incorporated city, town, village, county, township, parish, Indian reservation or borough whose income is at or below 80 percent of either (i) the state median household income of $21,967 or (ii) national Median Household Income of $69,021, whichever is higher, as measured by the 2020 Census.

Recipient—The entity that receives the financial and technical assistance from the intermediary. The recipient must be a nonprofit community-based housing and community development organization, low-income rural community, municipality, or a federally recognized tribe, within the selected (15) communities in the geographical area of the Puerto Rico RPN (see Appendix A). There are no federally recognized tribes nor TDHEs in Puerto Rico.

Rural and rural area—All Census Designated Places (CDP) in Puerto Rico with populations of 50,000 or less. Under this new methodology, all CDPs whose populations exceed 50,000 are not rural; however, individual census tracts within those CDPs with the following characteristics are designated as rural areas:

• Population density of 2,000 or less per square kilometer that are clearly not urban in character (e.g., not an industrial/commercial area like a major airport, sportsplex, or a shopping center).

• Population density greater than 2,000 per square kilometer that are contiguous to other census tracts, the majority of whose population densities is 2,000 or less.

Rural Partners Network Community Network—pre-selected geographic boundaries at the municipal level where the RPN pilot is serving to provide place-based assistance. The three RPN Community Networks in Puerto Rico are the Southwest Community Network, the Central Mountain Community Network, and the East Community Network. The Southwest Community Network is comprised of Mayaguez, Maricao, and Guánica; the Central Mountain Community Network is comprised of 9 municipalities: Utuado, Jayuya, Orocovis, Ciales, Villalba, Ponce, Adjuntas, Barranquitas, and Coamo; and the East Community Network is comprised of Fajardo, Ceiba, Naguabo, and El Yunque National Rainforest.

Technical assistance—Skilled help in improving the recipient's abilities in the areas of housing, community facilities, or community and economic planning development, including assistance with organizational structure, planning pre-award and post-award management, disaster recovery training in response to a Presidentially declared disaster, vacant and abandoned properties solutions, and drafting bylaws.

4. Application of Awards.

The Agency will review, evaluate, and score applications received in response to this notice based on the provisions indicated in this notice. Awards under this program will be made on a competitive basis using specific selection criteria contained in this notice. The Agency advises all interested parties that the applicant bears the full burden of the costs incurred in connection with the preparation and submission of an application in response to this notice.

Awards under the Puerto Rico RPN RCDI Program are limited and are awarded through a competitive process. No reimbursement will be made for any funds expended prior to execution of the RCDI Grant Agreement and prior to the Agency's approval of recipients not identified in the application unless the intermediary is a nonprofit or educational entity and has requested and received written Agency approval of the costs prior to the actual expenditure. This exception is applicable for up to 90 days prior to grant closing and only applies to grantees that have received written approval but have not executed the Grant Agreement.

The Agency cannot retroactively approve reimbursement for expenditures prior to execution of the Grant Agreement.

B. Federal Award Information

Qualified private organizations, nonprofit organizations and public (including Tribal) intermediary organizations, located in Puerto Rico, proposing to carry out financial and technical assistance programs will be eligible to receive grant funding as an Intermediary under this program.

Type of Award: Grant.

Fiscal Year Funds: FY 2024.

Available Funds: A total of $1,000,000 will be made available to intermediaries proposing to serve areas in Puerto Rico affected by a disaster declared by the President.

Award Amounts: Grant funds are limited and are awarded through a competitive process. The maximum grant award amount available to an intermediary is $250,000. The intermediary must provide a program of financial and technical assistance to recipients to develop their capacity and ability to undertake projects related to housing, community facilities, or community and economic development that will support the community.

Anticipated Award Date: August 15, 2024.

Performance Period: Grant funds must be utilized within three years from the date of the award.

The intermediary must provide a program of financial and technical assistance to one or more of the following: a nonprofit, low-income rural community, or local municipality, or a federally recognized tribe.

Renewal or Supplemental Awards: The Agency does not anticipate any additional awards.

Type of Assistance Instrument: Grant agreement.

C. Eligibility Information

1. Eligible Applicants. Applicants must meet all the following eligibility requirements by the application deadline. Applications that fail to meet any of these requirements by the application deadline will be deemed ineligible, will not be evaluated further, and will not receive a federal award under this funding opportunity:

(a) Qualified private organizations, nonprofit organizations (including faith-based organizations in accordance with 7 CFR part 16, community organizations and philanthropic foundations), and public (including Tribal) intermediary organizations are eligible applicants. Definitions that describe eligible organizations and other key terms are listed above in section A(3) “Definitions.”

(b) The recipient must be a nonprofit community-based housing and development organization, a low-income rural community, municipality, or a federally recognized tribe within the selected fifteen (15) communities in the geographical of the Puerto Rico RPN (see Appendix A). There are no federally recognized tribes nor TDHEs in Puerto Rico.

(c) Private nonprofit, faith, or community-based organizations must provide a certificate of incorporation and a certificate of good standing from the Secretary of State of the State of incorporation, or other similar and valid documentation of current nonprofit status. For low-income rural community recipients, the Agency requires evidence that the entity is a public body and census data verifying that the median household income of the community where the office receiving the financial and technical assistance is located is at, or below, 80 percent of the State ($21,967) or national median household income ($69,021), whichever is higher, and provide evidence documenting that the recipient is located within Puerto Rico RPN Community Networks.

(d) Grant funds will be disbursed pursuant to relevant provisions of 2 CFR parts 200 and 400.

(e) Grant funds will be disbursed on an advance or reimbursement basis.

(f) Successful applications will be selected by the Agency for funding and will be awarded from funds appropriated for the Puerto Rico RPN RCDI program.

2. Cost Sharing or Matching.

There are no cost sharing or matching requirements associated with this grant program.

3. Other Eligibility Requirements.

The Intermediary must be located in Puerto Rico. The recipient and beneficiary, but not the intermediary, must be in an eligible RPN rural area (see Appendix A). The physical location of the recipient's office that will be receiving the financial and technical assistance must be in an eligible RPN rural area. If the recipient is a low-income community, the median household income of the area where the office is located must be at or below 80 percent of the State ($21,967) or national median household income ($69,021), whichever is higher. The Puerto Rico Rural Development State Office can assist in determining the eligibility of an area.

(a) Grant funds must be utilized in a timely manner to ensure that the goals and objectives of the program are met.

(b) Individuals cannot be recipients.

(c) The intermediary must provide a program of financial and technical assistance to the recipient.

(d) The intermediary organization must have been legally organized for a minimum of three years and have at least three years prior experience working with private nonprofit community-based housing and development organizations, low-income rural communities, or tribal organizations in the areas of housing, community facilities, or community and economic development. The intermediary organization may contract with a nonaffiliated organization for not more than 49 percent of the awarded grant to provide the proposed technical assistance.

(e) Proposals must be structured to utilize the grant funds within 3 years from the date of the award.

(f) Each applicant, whether individually or jointly, may only submit one application for RCDI funds under this Notice.

(g) The intermediary and the recipient cannot be the same entity. The recipient can be a related entity to the intermediary, if it meets the definition of a recipient, provided the relationship does not create a conflict of interest that cannot be resolved to Rural Development's satisfaction.

(1) Eligible activities:

Capacity Building

• Build grant writing, program application and post award management and reporting capacity.

• Provide assistance to community based-organizations and other types of organizations that needs to formalize its organization—legal, administrative and financial capacity—including assisting with filing for System Award Management (SAM) and Unique Entity Identifier (UEI) registrations, and requirements.

• Board training.

Funding

• Assisting with completing a grant application in accordance with federal regulations.

• Assisting with capacity assessment, planning, short, medium, long-term solutions and coordination of funding and service resources.

• Assisting with completion of environmental reports and/or documentation required for submittal of applications.

• Accessing alternative funding sources.

• Funding identification program alignment and project management to include predevelopment grant writing, technical assistance, and post award management.

Planning

• According to the need or project, developing the necessary planning instrument such as: Strategic plan development, Viability Plans, Community Resiliency Plans, Community Emergency Plans, and/or Feasibility Plans.

• Developing successful community facilities.

• Creating training tools, such as videos, workbooks, and reference guides.

• Project coordination—of funding and service resources—and implementation program for the short-, medium- and long-term solutions.

• Providing Professional service fees for a Project Manager/Coordinator for assistance or implementation of the plans.

Relationship Building

• Align outreach and site visit coordination.

• Engage with cultural, faith based and community stakeholders.

• Create alliances and partnerships to leverage mutual interest, promote efficiency, innovation and collaboration.

• Guide in the creation of a volunteer program.

Municipal Support

• Planning, implementation strategies, project management, and identification of funds for community development projects and services.

• Strengthen community empowerment organizations and structure for supporting community development.

• Assist with Nuisance program development and strategies for providing affordable housing.

• Assist with Childcare, elderly services and housing, ownership titles orientation as part of disaster preparedness, support disaster recovery and climate change awareness in community development projects.

(2) Eligible recipients are:

(a) A municipality of any of the fifteen (15) RPN municipalities that compose the community networks (see Annex), private nonprofit, a community-based organization, or a rural community located in a Puerto Rico RPN Community Network. Particularly, organizations that have a community development project, services or initiatives in a RPN Community Network and needs assistance and capacity building to be eligible for federal funding and/or to implement the project, service or initiative.

(b) Recipients can benefit from more than one Puerto Rico RPN RCDI application; however, after grant selections are made, the recipient can only benefit from multiple RCDI-RPN grants if the type of financial and technical assistance the recipient will receive is not duplicative. The services described in multiple Puerto Rico RPN RCDI grant applications must have separate and identifiable accounts for compliance purposes.

(c) If the recipient is a low-income rural community, identify the unit of government to which the financial and technical assistance will be provided. The financial and technical assistance must be provided to the organized unit of government representing that community, not the community at large.

(3) Intermediary requirements:

Grant funds must be utilized in a timely manner to ensure that the goals and objectives of the program are met.

(a) The intermediary must have been legally organized for a minimum of three years.

(b) The intermediary must provide a program of financial and technical assistance to the recipient.

(c) The intermediary must provide the latest financial information to show the intermediary's financial viability to carry out the proposed work. A current audit report is preferred.

(d) The intermediary must provide evidence of their experience in successfully completing and administering similar activities for technical assistance and capacity building to municipalities, rural communities, nonprofit, community-based organizations, during the past three years in activities such as: SAM registrations, 501(c)(3) process, drafting bylaws, planning a community development project, implementing and managing a community project, searching for federal resources, drafting a successful proposal, financial planning, strategic planning, implementing a community empowerment approach, assessing and resolving on land ownership and title documentation, and a nuisance management program among others.

D. Application and Submission Information

1. Address to Request Application Package.

Application information for electronic submissions may be found at https://www.grants.gov.

Applicants may also request paper application packages from the Puerto Rico Rural Development State Office located at 654 Muñoz Rivera Ave., Suite 601, San Juan, Puerto Rico 00918 or at (787) 766-5095.

2. Content and Form of Application Submission.

If the applicant is ineligible or the application is incomplete, the Agency will inform the applicant in writing of the decision, reasons therefore, and its appeal rights and no further evaluation of the application will occur.

A complete application for Puerto Rico Rural Partners Network RCDI Program funds must include the following:

(a) A summary page, double-spaced between items, listing the following:

(This information should not be presented in narrative form.)

• Applicant's name,

• Applicant's address,

• Applicant's telephone number,

• Name of applicant's contact person, email address and telephone number,

• County where applicant is located,

• Congressional district number where applicant is located,

• Amount of grant request, and

• Proposed number and type of recipients.

(b) A detailed Table of Contents containing page numbers for each component of the application.

(c) A project overview including the following items, which will also be addressed separately and in detail under “Building Capacity and Expertise” of the “Evaluation Criteria.”

The type of technical assistance to be provided to the recipients and how it will be implemented.

• How the capacity and ability of the recipients will be improved.

• The overall goals to be accomplished.

• The benchmarks to be used to measure the success of the program.

Benchmarks should be specific and quantifiable.

• What deliverables and outcomes are expected to be produced from the technical assistance.

• Define the process to provide mentorship and maintenance of efforts.

• Describe the technical assistance provided to the recipient demonstrating at least 50 percent l interaction.

• Timeline describing the proposed tasks to be accomplished and the schedule for the implementation.

• Outreach activities proposed.

(d) Organizational documents, such as a certificate of incorporation and a current good standing certification from the Secretary of State where the applicant is incorporated and other similar and valid documentation of current status, from the intermediary that confirms it has been legally organized for a minimum of three years as the applicant entity.

The applicant must maintain documentation on file for a period of at least three years after grant closing except that the records shall be retained beyond the three-year period if audit findings have not been resolved.

(e) The following information is required for each Recipient:

Recipients do not have to be identified in the application, however, Recipients must be determined eligible by the Puerto Rico Rural Development State office prior to the Intermediary providing assistance to the Recipient.

(1) Recipient's name,

(2) Complete address (mailing and physical location, if different),

(3) County where located,

(4) Congressional district where recipient is located,

(5) Contact person's name, email address and telephone number, and

(6) Form RD 400-4, “Assurance Agreement.” If the Form RD 400-4 is not submitted for each recipient, the recipient will be considered ineligible.

(f) Submit evidence that each recipient entity is eligible. Documentation must be submitted to verify recipient eligibility. Links to websites are not acceptable. Acceptable documentation varies depending on the type of recipient:

(1) Nonprofits—provide a current valid letter confirming nonprofit status from the Secretary of State of the State of incorporation, a current good standing certification from the Secretary of State of the State of incorporation, or other valid documentation of current nonprofit status of each recipient.

A nonprofit recipient must provide evidence that it is a valid nonprofit when the intermediary applies for the RCDI grant. Organizations with pending requests for nonprofit designations are not eligible.

(2) Low-income rural community—provide evidence the entity is a public body (e.g., copy of Charter, relevant Acts of Assembly, relevant court orders (if created judicially) or other valid documentation), and 2021 American Community Survey (ACS) 5-year estimates (2017-2021 data set) data as evidence that the median household income is at, or below, 80 percent of either the State or national median household income. We will only accept data and printouts from https://data.census.gov/cedsci/.

(3) Federally recognized Tribes—The 2024 list is available at 89 FR 944, pages 944-948 at the following link: https://www.govinfo.gov/content/pkg/FR-2024-01-08/pdf/2024-00109.pdf. For Tribes that received federal recognition status publication, outside the publication cited above, statutory citations and additional documentation will suffice.

An intermediary proposing to serve one or more federally recognized Tribes must include a resolution of support with its application from the Tribes it proposes to serve. If the resolution of support is not submitted for each Tribe, the Tribe will be considered ineligible as a recipient. This requirement is being added to ensure collaboration during the application process between intermediaries and all Tribes that they propose to serve. There are no federally recognized tribes nor TDHEs in Puerto Rico.

(g) Each of the “Evaluation Criteria” must be addressed specifically and individually by category. Present these criteria in narrative form. Narrative (not including attachments) must be limited to five pages per criterion.

(h) A timeline identifying specific activities and proposed dates for completion.

(i) A detailed project budget that includes the RCDI grant amount. This should be a line-item budget, by category. Categories such as salaries, administrative, other, and indirect costs that pertain to the proposed project must be clearly defined. Supporting documentation listing the components of these categories must be included. The budget should be dated as follows: year 1, year 2, and year 3, as applicable.

(j) The indirect cost category in the project budget should be used only when a grant applicant has a federally negotiated indirect cost rate. A copy of the current rate agreement must be provided with the application. Non-federal entities that have never received a negotiated indirect cost rate, except for those non-federal entities described in Appendix VII to Part 200—States and Local Government and Indian Tribe Indirect Cost Proposals, paragraph (D)(1)(b), may use the de minimis rate of 10 percent of modified total direct costs (MTDC).

(k) Form SF-424, “Application for Federal Assistance.”

(Do not complete Form SF-424A, “Budget Information.” A separate line-item budget should be presented as described in Letter (j) of this section.)

(l) Certification of Non-Lobbying Activities, RD Instruction 1940-Q Exhibit A-1, “Certification for Contracts, Grants and Loans” or equivalent.

(m) Standard Form LLL, “Disclosure of Lobbying Activities,” if applicable.

Applicants must collect and maintain data provided by recipients on race, sex, and national origin and ensure Ultimate Recipients collect and maintain this data. Race and ethnicity data will be collected in accordance with OMB Federal Register notice, “Revisions to the Standards for the Classification of Federal Data on Race and Ethnicity” (62 FR 58782), October 30, 1997. Sex data will be collected in accordance with Title IX of the Education Amendments of 1972. These items should not be submitted with the application but should be available upon request by the Agency.

The applicant and the recipient must comply with Title VI of the Civil Rights Act of 1964, Title IX of the Education Amendments of 1972, the Americans with Disabilities Act (ADA), section 504 of the Rehabilitation Act of 1973, the Age Discrimination Act of 1975, Executive Order 12250, Executive Order 13166 Limited English Proficiency (LEP), and 7 CFR part 1901, subpart E.

(n) Identify and report any association or relationship with Rural Development employees. (A statement acknowledging whether or not a relationship exists is required.)

3. System for Award Management and Unique Entity Identifier.

At the time of application, each applicant must have an active registration in the System for Award Management (SAM) before submitting its application in accordance with 2 CFR part 25 (https://www.ecfr.gov/current/title-2/subtitle-A/chapter-I/part-25). In order to register in SAM, entities will be required to obtain a Unique Entity Identifier (UEI). Instructions for obtaining the UEI are available at https://sam.gov/content/entity-registration.

(a) Applicants must maintain an active SAM registration, with current, accurate and complete information, at all times during which it has an active federal award or an application under consideration by a federal awarding agency.

(b) Applicants must ensure they complete the Financial Assistance General Certifications and Representations in SAM.

(c) Each Applicant must provide a valid UEI in its application, unless determined exempt under 2 CFR 25.110 (https://www.ecfr.gov/current/title-2/subtitle-A/chapter-I/part-25/subpart-A/section-25.110).

(d) Each applicant must provide documentation that it is registered in SAM and include its UEI number. If the applicant does not provide documentation confirming that it is registered in SAM and its UEI number, the application will not be considered for funding.

(e) The Agency will not make an award until the applicant has complied with all SAM requirements including providing the UEI. If an applicant has not fully complied with the requirements by the time the Agency is ready to make an award, the Agency may determine that the applicant is not qualified to receive a federal award and use that determination as a basis for making a Federal award to another applicant.

4. Submission Dates and Times.

Completed applications must be submitted using one of the following methods:

Paper submissions: Paper application must be received by 4:00 p.m. local time by the Puerto Rico Rural Development State Office located at 654 Muñoz Rivera Ave., Suite 601, San Juan, Puerto Rico 00918, on July 3, 2024. Applicants intending to mail applications must provide sufficient time to permit delivery on or before the closing deadline date and time. Acceptance by the United States Postal Service or private mailer does not constitute delivery. Facsimile (FAX), electronic mail, and postage due applications will not be accepted. The application dates and times are firm. The Agency will not consider any application received after the deadline. To submit a paper application, the original application package must be submitted to the Puerto Rico Rural Development State Office located at 654 Muñoz Rivera Ave., Suite 601, San Juan, Puerto Rico 00918. The applicant should contact the Puerto Rico Rural Development State Office to see if applications may be submitted to Field Offices.

Applicants may also request paper application packages from the Puerto Rico Rural Development State office at 654 Muñoz Rivera Ave., Suite 601, San Juan, Puerto Rico 00918, or (787) 766-5095.

Electronic submissions: Applications will not be accepted via FAX or electronic mail. Applicants may file an electronic application at https://www.grants.gov. Application information for electronic submissions may be found at https://www.Grants.gov/. Electronic applications must be submitted via Grants.gov by 11:59 p.m. Eastern Time on June 28, 2024. The application dates and times are firm. The Agency will not consider any application received after the deadline. Follow the instructions at Grants.gov for registering and submitting an electronic application. If a system problem or technical difficulty occurs with an electronic application, please use the customer support resources available at the Grants.gov website.

Technical difficulties applying through Grants.gov will not be a reason to extend the application deadline. If an application is unable to be submitted through Grants.gov, a paper application must be received in the Puerto Rico Rural Development State Office by the deadline noted previously.

5. Intergovernmental Review.

Executive Order (E.O.) 12372, “Intergovernmental Review of Federal Programs,” applies to this program. This E.O. requires that Federal agencies provide opportunities for consultation on proposed assistance with State and local governments. Many states have established a Single Point of Contact (SPOC) to facilitate this consultation. For a list of States that maintain a SPOC, please see the White House website: https://www.whitehouse.gov/omb/management/office-federal-financial-management/. If your State has a SPOC, you may submit a copy of the application directly for review. Any comments obtained through the SPOC must be provided to your State Office for consideration as part of your application. If your state has not established a SPOC, you may submit your application directly to the Agency. Applications from Federally recognized Indian Tribes are not subject to this requirement. There are no federally recognized tribes nor TDHEs in Puerto Rico.

6. Funding Restrictions.

The following are examples of eligible and ineligible purposes under the Puerto Rico RPN RCDI program. Activities that meet the objectives of the Puerto Rico RPN RCDI program and meet the criteria outlined in this Notice will be considered eligible. These examples are illustrative and are not meant to limit the activities proposed in the application:

(a) The intermediary must work directly with the recipient, not the ultimate beneficiaries. For example:

The intermediary provides training and technical assistance to the recipients on developing and updating materials related to the prevention, treatment and recovery activities for opioid use disorder and ensures that high-quality training is provided to communities affected by the opioid epidemic.

(b) The intermediary provides training to the recipient on how to conduct homeownership education classes. The recipient then provides ongoing homeownership education to the residents of the community—the ultimate beneficiaries. This “train the trainer” concept fully meets the intent of this initiative. The intermediary is providing technical assistance that will build the recipient's capacity by enabling it to conduct homeownership education classes for the public. This is an eligible purpose. However, if the intermediary directly provided homeownership education classes to individuals in the recipient's service area, this would not be an eligible purpose because the recipient would be bypassed.

(c) If the intermediary is working with a low-income community as the recipient, the intermediary must provide the technical assistance to the entity that represents the low-income community and is identified in the application.

If the intermediary provides technical assistance to the Board of the low-income community on how to establish a cooperative, this would be an eligible purpose. However, if the intermediary works directly with individuals from the community to establish the cooperative, this is not an eligible purpose.

The recipient's capacity is built by learning skills that will enable it to support sustainable economic development in its community on an ongoing basis.

(d) The intermediary may provide technical assistance to the recipient on how to create and operate a revolving loan fund. The intermediary may not monitor or operate the revolving loan fund. RCDI funds cannot be used to fund revolving loan funds.

(e) The intermediary may work with recipients to build their capacity to provide planning and leadership development training. The recipients of this training would be expected to assume leadership roles in the development and execution of regional strategic plans. The intermediary would work with multiple recipients in helping communities recognize their connections to the greater regional and national economies.

(f) The intermediary could provide training and technical assistance to the recipients on developing emergency shelter and feeding, short-term housing, search and rescue, and environmental accident, prevention, and cleanup program plans. For longer term disaster and economic crisis responses, the intermediary could work with the recipients to develop job placement and training programs and develop coordinated transit systems for displaced workers.

7. Other Submission Requirements.

Fund uses must be consistent with the Puerto Rico RPN RCDI purpose. Eligible purposes of grant funds include, but are not limited to, the following:

(a) Provide technical assistance to develop recipients' capacity and ability to undertake projects related to housing, community facilities, or community and economic development, (e.g., the intermediary hires a staff person to provide technical assistance to the recipient or the recipient hires a staff person, under the supervision of the intermediary, to carry out the technical assistance provided by the intermediary). Hiring must support the intermediary's training purpose. Additional staff can be hired as a secondary purpose needed to carry out technical assistance/training to the recipient and must support the intermediary's training purpose.

(b) Develop the capacity of recipients to conduct community development programs, (e.g., homeownership education or training for business entrepreneurs).

(c) Develop the capacity of recipients to conduct developmental initiatives (e.g., programs that support micro-enterprise and sustainable development).

(d) Develop the capacity of recipients to increase their leveraging ability and access to alternative funding sources by providing training and staffing.

(e) Develop the capacity of recipients to provide the technical assistance component for essential community facilities projects.

(f) Assist recipients in completing pre-development requirements for housing, community facilities, or community and economic development projects by providing resources for professional services, e.g., architectural, engineering, or legal. While this is an eligible purpose, applicant needs to ensure the capacity of the recipient is being expanded with appropriate training during the process.

(g) Improve recipient's organizational capacity by providing training and resource material on developing strategic plans, board operations, management, financial systems, and information technology.

(h) Purchase of computers, software, and printers is limited to $10,000 per award at the recipient level when directly related to the technical assistance program being undertaken by the intermediary.

(i) Provide funds to recipients for training-related travel costs and training expenses related to Puerto Rico RPN RCDI.

The following is a list of ineligible uses of grant funds:

• Pass-through grants, and any funds provided to the recipient in a lump sum that are not reimbursements.

• Funding a revolving loan fund (RLF).

• Construction (in any form).

• Salaries for positions involved in construction, renovations, rehabilitation, and any oversight of these types of activities.

• Intermediary preparation of strategic plans for recipients.

• Funding prostitution, gambling, or any illegal activities.

• Grants to individuals.

• Funding a grant where there may be a conflict of interest, or an appearance of a conflict of interest, involving any action by the Agency.

• Paying obligations incurred before the beginning date without prior Agency approval or after the ending date of the grant agreement.

• Purchasing real estate.

• Improvement or renovation of the grantee or recipient's office space or for the repair or maintenance of privately-owned vehicles.

• Any purpose prohibited in 2 CFR part 200 or 400.

• Using funds for recipient's general operating costs.

• Using grant funds for Individual Development Accounts.

• Purchasing vehicles.

• In accordance with 31 U.S.C. 1345, “Expenses of Meetings,” appropriations may not be used for travel, transportation, and subsistence expenses for a meeting. RCDI grant funds cannot be used for these meeting-related expenses.

RCDI funds may be used to pay for a speaker as part of a program, equipment to facilitate the program, and the actual room that will house the meeting.

RCDI funds cannot be used for meetings; they can, however, be used for travel, transportation, or subsistence expenses for program-related training and technical assistance purposes. Any training not delineated in the application must be approved by the Agency to verify compliance with 31 U.S.C. 1345. Travel and per diem expenses (including meals and incidental expenses) will be allowed in accordance with 2 CFR parts 200 and 400.

E. Application Review Information

1. Criteria.

All eligible and complete applications will be evaluated and scored based on the selection criteria and weights contained in this Notice. Failure to address any of the application criteria by the application deadline will result in the application being determined ineligible, and the application will not be considered for funding.

All applications that are complete and eligible will be scored and ranked competitively. The categories for scoring criteria used are the following:

(a) Building Capacity and Expertise—Maximum 40 Points

The applicant must demonstrate how it will improve the recipients' capacity, through a program of financial and technical assistance, as it relates to the Puerto Rico RPN RCDI Program purposes.

Capacity—Building financial and technical assistance should provide new functions to the recipients or expand existing functions that will enable the recipients to undertake projects in the areas of housing, community facilities, or community and economic development that will benefit the community. Capacity-building financial and technical assistance may include, but is not limited to: training to conduct community development programs (e.g., homeownership education, or the establishment of minority business entrepreneurs, cooperatives, or micro-enterprises); organizational development (e.g., assistance to develop or improve board operations, management, and financial systems); instruction on how to develop and implement a strategic plan; instruction on how to access alternative funding sources to increase leveraging opportunities; and, staffing (e.g., hiring a person at intermediary or recipient level to provide technical assistance to recipients).

The program of financial and technical assistance that is to be provided, its delivery, and the measurability of the program's effectiveness will determine the merit of the application.

All applications will be competitively ranked and the applications providing the most improvement in capacity development and measurable activities being ranked the highest.

The narrative response must contain the following items. This list also contains the points for each item.

(1) Describe how the applicant will identify and will select the recipients in the RPN area and how the applicant will assess the recipient's needs for technical assistance and capacity building as described in purpose of the program (pages 6 to 8) (8 Points).

(2) The scope of the technical assistance to be provided to the recipients and the activities that will be conducted to deliver the technical assistance, particularly providing customized-individualized technical assistance and capacity building (7 Points).

(3) Identify which RCDI-RPN purpose areas will be addressed with this assistance: planning, project management, grant management and post award, development of bylaws, budgeting, financial planning, funding identification, implementation, community development and empowerment initiatives, grant eligibility and writing. (5 Points).

(4) Describe how the results of the technical assistance will be measured and describe the benchmarks to be used to measure effectiveness. Benchmarks should be specific and quantifiable (10 Points).

(5) Demonstrate that the applicant/intermediary has conducted programs of technical assistance and capacity building in rural communities, for municipalities, community-based organizations and nonprofits and achieved measurable results and best practices in successfully implementing and completing the community development project. (10 Points).

(b) Soundness of Approach—Maximum 15 Points

The applicant can receive up to 15 points for soundness of approach. The overall proposal will be considered under this criterion.

The maximum of 15 points for this criterion will be based on the following:

(1) The proposal fits the objectives for which applications were invited, is clearly stated, and the applicant has defined how this proposal will be implemented (7 Points).

(2) The ability to provide the proposed technical assistance and capacity building based on prior accomplishments (6 Points).

(3) Cost effectiveness will be evaluated based on the budget in the application. The proposed grant amount and matching funds should be utilized to maximize capacity building at the recipient level (2 Points).

(c) RPN Community Network—15 Points

The RPN Community Network is defined as the boundaries of the three Community Networks. The Southwest Community Network is comprised of Mayaguez, Maricao, and Guánica; the Central Mountain Community Network is comprised of 9 municipalities: Utuado, Jayuya, Orocovis, Ciales, Villalba, Ponce, Adjuntas, Barranquitas, and Coamo; and the Eastern Community Network is comprised of Fajardo, Ceiba, Naguabo, and El Yunque National Rainforest.

The applicant must indicate the targeted group that will benefit from the technical assistance and capacity building within the Community Network and will be scored as follows in the table illustrated below:

Type of recipient | Scoring (points)
Community Based Organization (minimum 6) | 4
Combination of municipality, community-based organization and Not-For Profit (minimum 5) | 4
Combination of Community-based organization and nonprofits (minimum 5) | 3
Not-For Profit (minimum 7) | 3
Municipalities (minimum 3) | 1

The applicant must indicate in the work description which areas of technical assistance they will provide:

Type of technical assistance | Scoring (percent)
Capacity building | 40
• Build grant writing, program application and post award management and reporting capacity.
a. Train, mentors, one-on-one assistance with organizations to write successful grant applications or proposals.
b. Assist with completing a grant application in accordance with federal regulations.
• Provide assistance to community based-organizations and other types of organizations that need to formalize its organization—legal, administrative and financial capacity—including assisting with filing for System Award Management (SAM) and Unique Entity Identifier (UEI) registrations, and requirements.
a. Prepare organizations to apply for and receive federal funding (SAMS, UEI).
• Board training.
a. Identification, selection and creation of the board of directors.
b. Draft by-laws.
• Funding:
a. Assist in the capacity assessment, planning, short, medium, long-term solutions and coordination of funding and service resources.
b. Assisting with the identification of environmental reports and/or documentation required for submittal of applications.
c. Identifying funding sources for matching or grants based on reimbursement.
d. Developing cost estimates
e. Guidance to define administrative cost.
Planning | 20
• According to the need or project, developing the necessary planning instrument such as: Strategic plan development, Viability plans, Community Resiliency Plans, Community Emergency Plans, and/or Feasibility Plans.
• Developing successful community facilities.
• Creating training tools, such as videos, workbooks, and reference guides.
• Project coordination—of funding and service resources—and implementation program for the short-, medium- and long-term solutions.
• Professional service fees for a Project Manager/Coordinator for assistance or implementation of the plans.
• Creation of action plans for project deployment.
Relationship building | 20
• Align outreach and site visit coordination.
• Engagement with cultural, faith-based and community stakeholders.
• Creating alliances and partnerships to leverage mutual interest, promote efficiency, innovation and collaboration.
• Guide in the creation of a volunteer program.
Municipal Support: | 20
• Planning implementation strategies, project management, and identification of funds for community development projects and services.
• Strength community empowerment organizations and structure for supporting community development.
• Nuisance program development and strategies for providing affordable housing.
• Childcare, elderly services and housing, ownership titles orientation as part of disaster preparedness, support disaster recovery and climate change awareness in community development projects.

(d) State Director's Points—Maximum 30 Points

The State Director may award up to 30 discretionary points for projects to address items such as geographic distribution of funds, emergency conditions caused by economic problems, natural disasters and other initiatives identified by the Secretary. The State Director may also award points to any application that will advance the following key priorities:

(1) Addressing Climate Change and Environmental Justice: Reducing climate pollution and increasing resilience to the impacts of climate change through economic support to rural communities. Applicants may receive priority points addressing climate change in three ways:

Option 1: Applicants will receive points if the project is located in or serves a Disadvantaged Community as defined by the Climate and Economic Justice Screening Tool (CEJST), from the White House Council on Environmental Quality (CEQ). CEJST is a tool to help Federal agencies identify disadvantaged communities that will benefit from programs included in the Justice40 initiative. Census tracts are considered disadvantaged if they meet the thresholds for at least one of the CEJST's eight (8) categories of burden: Climate, Energy, Health, Housing, Legacy Pollution, Transportation, Water and Wastewater, or Workforce Development.

Option 2: Applicants will receive points if the project is located in or serves an Energy Community as defined by the Inflation Reduction Act (IRA). The IRA defines energy communities as:

• A “brownfield site” (as defined in certain subparagraphs of the Comprehensive Environmental Response, Compensation, and Liability Act of 1980 (CERCLA))

• A “metropolitan statistical area” or “non-metropolitan statistical area” that has (or had at any time after 2009)

• 0.17% or greater direct employment or 25% or greater local tax revenues related to the extraction, processing, transport, or storage of coal, oil, or natural gas; and has an unemployment rate at or above the national average unemployment rate for the previous year

• A census tract (or directly adjoining census tract) in which a coal mine has closed after 1999; or in which a coal-fired electric generating unit has been retired after 2009.

Option 3: Applicants will receive points by demonstrating through written narrative how proposed climate-impact projects improve the livelihoods of community residents and meet pollution mitigation or clean energy goals.

Information on whether your project qualifies for priority points can be found at the following website: https://www.rd.usda.gov/priority-points.

(2) Advancing Racial Justice, Place-Based Equity, and Opportunity: Ensuring all rural residents have equitable access to RD programs and benefits from RD funded projects.

This priority aligns with the Executive Order on Advancing Racial Equity and Support for Underserved Communities Through the Federal Government. The Applicant receives priority points if the project is located in or serving a community with score 0.75 or above on the CDC Social Vulnerability Index. Please use Community Look-Up Map to look up map or list to determine if your project qualifies for priority points.

US Territories are considered socially vulnerable and qualify for priority points.

Information on whether your project qualifies for priority points can be found at the following website: https://www.rd.usda.gov/priority-points.

(3) Creating More and Better Markets: Assisting rural communities to recover economically through more and better market opportunities through improved infrastructure.

Applicants receive priority points if the project is located in or serving a rural community whose economic well-being ranks in the most distressed tier of the Distressed Communities Index. The Distressed Communities Index provides a score between 1-100 for every community at the zip code level. The most distressed tier of the index are those communities with a score over 80. Please use the Distressed Communities Index Look-Up Map to determine if your project qualifies for priority points by using the following link: http://www.rd.usda.gov/priority-points/rural-develoment-priorities-fy-2024. For additional information on data sources used for this priority determination, please download the Data Sources for Rural Development Priorities document.

US Territories are considered distressed and qualify for priority points.

Information on whether your project qualifies for priority points can be found at the following website: https://www.rd.usda.gov/priority-points.

2. Review and Selection Process.

If requests exceed funds available, the applications will be rated and ranked by a review panel based on the “Application Review Information” contained in this Notice.

(a) If there is a tied score after the applications have been rated and ranked, the tie will be resolved by reviewing the scores for “Building Capacity and Expertise” and the applicant with the highest score in that category will receive a higher ranking. If the scores for “Building Capacity and Expertise” are the same, the scores will be compared for the next criterion, in sequential order, until the highest score can be determined. If all scores are equal Agency discretion applies.

(b) Initial screening: The Puerto Rico Rural Development State Office will screen each application to determine eligibility during the period immediately following the application deadline. Listed below are examples of reasons for rejection from previous funding rounds. The following reasons for rejection are not all inclusive; however, they represent the majority of the applications previously rejected.

• Recipients were not located in eligible rural areas based on the definition in this Notice.

• Applicants failed to provide evidence of recipient's status, i.e., documentation supporting nonprofit evidence of organization.

• Application did not follow the RPN RCDI structure with an intermediary and recipients.

• Intermediary did not provide evidence it had been incorporated for at least three years as the applicant entity.

• Applicants failed to address the “Application Review Information” in this Notice.

• The purpose of the proposal did not qualify as an eligible RPN RCDI purpose.

• Inappropriate use of funds (e.g., construction or renovations).

• The applicant proposed providing financial and technical assistance directly to individuals.

• The application package was not received by closing date and time.

3. Anticipated Announcement and Federal Award Dates.

August 15, 2024.

F. Federal Award Administration Information

1. Federal Award Notices.

Within the limit of funds available for such purpose, the awarding official of the Agency shall make grants in ranked order to eligible applicants under the procedures set forth in this Notice.

Successful applicants will receive a selection letter by mail containing instructions on requirements necessary to proceed with execution and performance of the award. This letter is not an authorization to begin performance. In addition, selected applicants will be requested to verify that components of the application have not changed at the time of selection and on the award obligation date, if requested by the Agency.

The award is not approved until all information has been verified, and the awarding official of the Agency has signed Form RD 1940-1, “Request for Obligation of Funds” and the grant agreement.

Unsuccessful applicants will receive notification, including notification of appeal rights, by mail.

2. Administrative and National Policy Requirements.

Grantees will be required to do the following:

(a) Execute a Rural Community Development Initiative Grant Agreement.

(b) Execute Form RD 1940-1, “Request for Obligation of Funds.”

(c) Use Form SF 270, “Request for Advance or Reimbursement,” to request reimbursements. Provide receipts for expenditures, timesheets and any other documentation to support the request for reimbursement.

(d) Provide financial status and project performance reports on a quarterly basis starting with the first full quarter after the grant award.

(e) Maintain a financial management system that is acceptable to the Agency.

(f) Ensure that records are maintained to document all activities and expenditures utilizing RCDI grant funds and matching funds. Receipts for expenditures will be included in this documentation.

(g) Provide annual audits or management reports on Form RD 442- 2, “Statement of Budget, Income and Equity,” and Form RD 442-3, “Balance Sheet,” depending on the amount of Federal funds expended and the outstanding balance.

(h) Collect and maintain data provided by recipients on race, sex, and national origin and ensure recipients collect and maintain the same data on beneficiaries. Race and ethnicity data will be collected in accordance with OMB Federal Register notice, “Revisions to the Standards for the Classification of Federal Data on Race and Ethnicity,” (62 FR 58782), October 30, 1997. Sex data will be collected in accordance with Title IX of the Education Amendments of 1972. These items should not be submitted with the application but should be available upon request by the Agency.

(i) Provide a final project performance report.

(j) Identify and report any association or relationship with Rural Development employees.

(k) The intermediary and recipient must comply with Title VI of the Civil Rights Act of 1964, Title IX of the Education Amendments of 1972, Section 504 of the Rehabilitation Act of 1973, Executive Order 12250, Age Act of 1975, Executive Order 13166 Limited English Proficiency, and 7 CFR part 1901, subpart E.

(l) The grantee must comply with policies, guidance, and requirements as described in the following applicable Code of Federal Regulations, and any successor regulations:

(1) 2 CFR parts 200 and 400 (Uniform Administrative Requirements, Cost Principles, and Audit Requirements for Federal Awards).

(2) 2 CFR parts 417 and 180 (Government-wide Debarment and Suspension (Nonprocurement)).

3. Reporting

After grant approval and through grant completion, you will be required to provide the following, as indicated in the Grant Agreement:

(a) SF-425, “Federal Financial Report” and SF-PPR, “Performance Progress Report” will be required on a quarterly basis (due 30 working days after each calendar quarter). The Performance Progress Report shall include the elements described in the grant agreement.

(b) Final financial and performance reports will be due 120 calendar days after the period of performance end date.

(c) A summary at the end of the final report with elements as described in the grant agreement to assist in documenting the annual performance goals of the RPN RCDI program for Congress.

G. Federal Awarding Agency Contacts

Contact the Puerto Rico Rural Development State Office at 654 Muñoz Rivera Ave., Suite 601, San Juan, Puerto Rico 00918, or (787) 766-5095.

H. Other Information

1. Civil Rights Requirements

All grants made under this Notice are subject to Title VI of the Civil Rights Act of 1964 as required by the USDA in 7 CFR part 15, subpart A, Section 504 of the Rehabilitation Act of 1973, Title VIII of the Civil Rights Act of 1968, Title IX, Executive Order 13166 (Limited English Proficiency), Executive Order 11246, and the Equal Credit Opportunity Act of 1974.

2. Paperwork Reduction Act

The paperwork burden has been approved by the Office of Management and Budget (OMB) under OMB Control Number 0575-0180.

3. National Environmental Policy Act

All recipients under this notice are subject to the requirements of 7 CFR part 1970, available at: https://rd.usda.gov/resources/environmental-studies/environmental-guidance.

4. Nondiscrimination Statement

In accordance with Federal civil rights laws and USDA civil rights regulations and policies, the USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office; or the 711 Federal Relay Service.

To file a program discrimination complaint, a complainant should complete a Form AD-3027, USDA Program Discrimination Complaint Form, which can be obtained online at, https://www.usda.gov/sites/default/files/documents/ad-3027.pdf from any USDA office, by calling (866) 632-9992, or by writing a letter addressed to USDA. The letter must contain the complainant's name, address, telephone number, and a written description of the alleged discriminatory action in sufficient detail to inform the Assistant Secretary for Civil Rights about the nature and date of an alleged civil rights violation. The completed AD-3027 form or letter must be submitted to USDA by:

(1) Mail: U.S. Department of Agriculture, Office of the Assistant Secretary for Civil Rights, 1400 Independence Avenue SW, Washington, DC 20250-9410; or

(2) Fax: (833) 256-1665 or (202) 690-7442; or

(3) Email: program.intake@usda.gov.

USDA is an equal opportunity provider, employer, and lender.

Joaquin J. Altoro,
Administrator, Rural Housing Service, USDA Rural Development.

Appendix A: Rural Partners Network: Community Networks Puerto Rico

[FR Doc. 2024-10363 Filed 5-13-24; 8:45 am]

BILLING CODE 3410-XV-P